DEPARTMENT OF TRANSPORTATION

Federal Aviation Administration

Notice of Availability of a Record of Decision (ROD) for a Written Re-evaluation of the Final Environmental Impact Statement (FEIS) for the Relocation of the Panama City-Bay County International Airport, Panama City, FL

AGENCY: Federal Aviation Administration (FAA), U.S. Department of Transportation (DOT).

ACTION: Notice of availability of a Record of Decision (ROD).

SUMMARY: The FAA is issuing this notice to advise the public that it has issued a ROD for a Written Re-evaluation of the FEIS for the Relocation of the Panama City-Bay County International Airport, Panama City, Florida. The FEIS for the relocation of the airport was issued in May 2006. The FAA issued a ROD for this federal action in September 2006. Airport facilities are currently being constructed at the new airport site. This ROD is issued for a Written Re-evaluation of the FEIS because the Panama City-Bay County Airport and Industrial District (Airport Sponsor) has proposed to extend the primary runway (Runway 16L-34R) from 8,400 feet to 10,000 feet. This ROD approves the extension and other minor changes as shown on a revised Airport Layout Plan (ALP) that has been submitted to the FAA. Subsequent to this ROD, the FAA will conditionally approve the revised ALP.

SUPPLEMENTARY INFORMATION: Copies of this ROD and Written Re-evaluation are available for public review at the following locations during normal business hours: Panama City-Bay County International Airport Administration Office, 3173 Airport Road, Panama City, Florida 32405, Telephone (850) 783-6751; Federal Aviation Administration Orlando Airports District Office, 5950 Hazeltine National Drive, Suite 400, Orlando, Florida, Telephone (407) 812-6331; Federal Aviation Administration Southern Region Office, 1701 Columbia Avenue, College Park, GA 30337, Telephone (404) 305-6700. The ROD will also be available for review at the FAA's Web site http://www.faa.gov in mid December, 2009.

FOR FURTHER INFORMATION CONTACT: Virginia Lane, Environmental Specialist, Federal Aviation Administration, Orlando Airports District Office, 5950 Hazeltine National Drive, Suite 400, Orlando, Florida 32822, Telephone (407) 812-6331 Extension 129.

Issued in Orlando, Florida on November 24, 2009.
W. Dean Stringer,
Manager, Orlando Airports District Office.

[FR Doc. E9-28839 Filed 12-1-09; 8:45 am]

BILLING CODE 4910-13-P